DEPARTMENT OF HOUSING AND URBAN DEVELOPMENT

[Docket No. FR-4650-N-89]

Notice of Proposed Information; Collection; Comment Request Employee Interviews/Labor Standards Wage Levels

AGENCY: Office of Departmental Operations and Coordination.

ACTION: Notice.

SUMMARY: The proposed information collection requirement described below will be submitted to the Office of Management and Budget (OMB) for review, as required by the Paperwork Reduction Act. The Department is soliciting public comments on the subject proposal.

DATES: Comments due: February 11, 2002.

ADDRESSES: Interested persons are invited to submit comments regarding this proposal. Comments should refer to the proposal by name and/or OMB Control Number and should be sent to: Wayne Eddins, Reports Management Officer, Department or Housing and Urban Development, 451 7th Street, SW., L'Enfant Plaza Building, Room 800a, Washington, DC 20410.

FOR FURTHER INFORMATION CONTACT: Wayne Eddins, Reports Management Officer, Q, Department of Housing and Urban Development, 451 Seventh Street, SW., Washington, DC 20410; E-mail Wayne_Eddins@HUD.gov; telephone (202) 708-2374 (this is not a toll-free number) for copies of the proposed forms and other available information.

SUPPLEMENTARY INFORMATION: The Department will submit the proposed information collection to OMB for review, as required by the Paperwork Reduction Act of 1995 (44 U.S.C. Chapter 35, as amended).

This Notice is soliciting comments from members of the public and affecting agencies concerning the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Record of Employee Interview.

OMB Control Number, if applicable: 2501-0009.

Description of the need for the information and proposed use: HUD and local agency officials administering HUD-assisted programs collect information from project construction workers to ensure wages meet labor standards requirements under the Davis-Bacon and related Acts. Local agencies must retain this informaiton to document to the quantity and quality of local enforcement efforts.

Agency form numbers, if applicable: HUD-11.

Estimation of the total number of hours needed to prepare the information collection including number of respondents, frequency of response, and hours of response: Total annual burden for this information collection is estimated at 10,000 hours.

20,000 interview respondents × 0.25 hours = 5,000 hours annually.

Recordkeeping 1,000 × 5 hours = 5,000 hours annually.

Status of the proposed information collection: Reinstatement, no changes.

Authority: Section 3506 of the Paperwork Reduction Act of 1995, 4 U.S.C. Chapter 35, as amended.

Dated: December 5, 2001.
Wayne Eddins,
Departmental Records Management Officer.

[FR Doc. 01-30645 Filed 12-11-01; 8:45 am]

BILLING CODE 4210-72-M